DEPARTMENT OF ENERGY

Federal Energy Regulatory Commission

[Docket No. AD19-13-000]

Reliability Technical Conference; Supplemental Notice of Technical Conference

Take notice that the Federal Energy Regulatory Commission (Commission) will hold a Technical Conference on Thursday, June 27, 2019, from 9:00 a.m. to 5:00 p.m. This Commissioner-led conference will be held in the Commission Meeting Room at the Federal Energy Regulatory Commission, 888 First Street NE, Washington, DC 20426. The purpose of the conference is to discuss policy issues related to the reliability of the Bulk-Power System. The final agenda with speakers for this event is attached.

The conference will be open for the public to attend. There is no fee for attendance. However, members of the public are encouraged to preregister online at: http://www.ferc.gov/whats-new/registration/06-27-19-form.asp.

Information on this event will be posted on the Calendar of Events on the Commission's website, http://www.ferc.gov, prior to the event. The conference will also be webcast and transcribed. Anyone with internet access who desires to listen to this event can do so by navigating to the Calendar of Events at http://www.ferc.gov and locating this event in the Calendar. The event will contain a link to the webcast. The Capitol Connection provides technical support for webcasts and offers the option of listening to the meeting via phone-bridge for a fee. If you have any questions, visit http://www.CapitolConnection.org or call (703) 993-3100. Transcripts of the technical conference will be available for a fee from Ace-Federal Reporters, Inc. at (202) 347-3700.

Commission conferences are accessible under section 508 of the Rehabilitation Act of 1973. For accessibility accommodations, please send an email to accessibility@ferc.gov or call toll free 1 (866) 208-3372 (voice) or (202) 502-8659 (TTY), or send a fax to (202) 208-2106 with the required accommodations.

For more information about this technical conference, please contact Lodie White (202) 502-8453, Lodie.White@ferc.gov. For information related to logistics, please contact Sarah McKinley at (202) 502-8368, Sarah.Mckinley@ferc.gov.

Dated: June 13, 2019.
Nathaniel J. Davis, Sr.,
Deputy Secretary.

[FR Doc. 2019-13233 Filed 6-20-19; 8:45 am]

BILLING CODE 6717-01-P